DEPARTMENT OF HEALTH AND HUMAN SERVICES

Health Resources and Services Administration

Advisory Committee on Organ Transplantation; Notice of Meeting

In accordance with section 10(a)(2) of the Federal Advisory Committee Act (Pub. L. 92-463), notice is hereby given of the following meeting:

Name: Advisory Committee on Organ Transplantation (ACOT).

Date and Time: August 28, 2012, 8:00 a.m. to 4:30 p.m. Eastern Daylight Time.

Place: Rockville Hilton Hotel, 1750 Rockville Pike, Rockville, MD 20852.

Status: The meeting will be open to the public.

Purpose: Under the authority of 42 U.S.C. 217a, Section 222 of the Public Health Service Act, as amended, and 42 CFR 121.12 (2000), ACOT was established to assist the Secretary in enhancing organ donation, ensuring that the system of organ transplantation is grounded in the best available medical science, and assuring the public that the system is as effective and equitable as possible, and, thereby, increasing public confidence in the integrity and effectiveness of the transplantation system. ACOT is composed of up to 25 members, including the Chair. Members are serving as Special Government Employees and have diverse backgrounds in fields such as organ donation, health care public policy, transplantation medicine and surgery, critical care medicine and other medical specialties involved in the identification and referral of donors, non-physician transplant professions, nursing, epidemiology, immunology, law and bioethics, behavioral sciences, economics and statistics, as well as representatives of transplant candidates, transplant recipients, organ donors, and family members.

Agenda: The Committee will hear reports including those from the three ACOT Work Groups: Declining Rates of Donation/Geographical and Other Variations in Organ Distribution, Alignment of CMS Regulatory Requirements with OPTN and HRSA, and Brain Death Determination. Agenda items are subject to change as priorities indicate.

After Committee discussion, members of the public will have an opportunity to comment. Because of the Committee's full agenda and timeframe in which to cover the agenda topics, public comment will be limited. All public comments will be included in the record of the ACOT meeting. Meeting summary notes will be posted on the Department's donation Web site at http://www.organdonor.gov/legislation/advisory.html#meetings.

The draft meeting agenda will be posted on https://www.team-psa.com/ACOT/Summer2012/. In order to register for this meeting, please visit the Meeting Registration Page. The deadline to register is August 13, 2012. For all logistical questions and concerns, please contact Brittany Carey of PSA at 703-889-9033 or bcarey@explorepsa.com.

Public Comment: Persons interested in providing an oral presentation should submit a written request, along with a copy of their presentation to: Passy Tongele, DoT, Healthcare Systems Bureau (HSB), Health Resources and Services Administration (HRSA), Room 12C-06, 5600 Fishers Lane, Rockville, Maryland 20857 or email at ptongele@hrsa.gov. Requests should contain the name, address, telephone number, email address, and any business or professional affiliation of the person desiring to make an oral presentation. Groups having similar interests are requested to combine their comments and present them through a single representative.

The allocation of time may be adjusted to accommodate the level of expressed interest. Persons who do not file an advance request for a presentation, but desire to make an oral statement, may request it at the time of the public comment period. Public participation and ability to comment will be limited to space and time as it permits.

For Further Information Contact: Patricia Stroup, Executive Secretary, ACOT, Healthcare Systems Bureau, Health Resources and Services Administration, 5600 Fishers Lane, Room 12C-06, Rockville, Maryland 20857; telephone (301) 443-1127.

Dated: July 13, 2012.
Jennifer Riggle,
Deputy Director, Office of Management.

[FR Doc. 2012-17830 Filed 7-20-12; 8:45 am]

BILLING CODE 4165-15-P